DEPARTMENT OF COMMERCE

National Oceanic and Atmospheric Administration

RIN 0648-XG016

Mid-Atlantic Fishery Management Council (MAFMC); Public Meetings

AGENCY: National Marine Fisheries Service (NMFS), National Oceanic and Atmospheric Administration (NOAA), Commerce.

ACTION: Notice of a public meeting.

SUMMARY: The Mid-Atlantic Fishery Management Council (Council) will hold a webinar-based meeting with the public for the purpose of providing instruction to for-hire operators on electronic reporting of vessel trip reports (VTRs).

DATES: This meeting will be held Friday, March 2, 2018, from 10 a.m. to 12:30 p.m.

ADDRESSES: The meeting will be held via webinar (http://mafmc.adobeconnect.com/evtr2018/) with a telephone audio connection (provided when connecting).

Council address: Mid-Atlantic Fishery Management Council, 800 N. State St., Suite 201, Dover, DE 19901; telephone: (302) 674-2331.

FOR FURTHER INFORMATION CONTACT: Andrew Loftus, eVTR Outreach Workshop Coordinator; telephone: (410) 295-5997; email: aloftus@andrewloftus.com or Christopher M. Moore, Ph.D. Executive Director, Mid-Atlantic Fishery Management Council; telephone: (302) 526-5255. The Council's website, www.mafmc.org also has details on the proposed agenda, webinar access, and briefing materials.

SUPPLEMENTARY INFORMATION: NOAA Fisheries has issued a final rule requiring the use of electronic vessel trip reports (VTRs) by vessel owners/operators holding Federal charter or party permits for species managed by a Mid-Atlantic Fishery Management Council FMP while on trips carrying passengers for hire. Electronic VTRs must be submitted through a NOAA-approved software application within 48 hours following the completion of a fishing trip. Vessels with Federal charter or party permits for any of the following species will be bound by this rule:

• Atlantic mackerel

• Squid

• Butterfish

• Summer Flounder

• Scup

• Black sea bass

• Bluefish

• Tilefish

This action takes effect March 12, 2018, and changes only the required method of transmitting VTRs and the submission date; the required data elements and all other existing reporting requirements will not change. This webinar meeting will provide information on the new requirements and options to assist affected parties to comply and training on select systems in preparation for this action.

Special Accommodations

This meeting is physically accessible to people with disabilities. Requests for sign language interpretation or other auxiliary aid should be directed to M. Jan Saunders, (302) 526-5251, at least 5 days prior to the meeting date.

Dated: February 7, 2018.
Tracey L. Thompson,
Acting Deputy Director, Office of Sustainable Fisheries, National Marine Fisheries Service.

[FR Doc. 2018-02729 Filed 2-9-18; 8:45 am]

BILLING CODE 3510-22-P